DEPARTMENT OF ENERGY

Energy Information Administration

Agency Information Collection Activities: Proposed Collection; Comment Request

AGENCY: Energy Information Administration (EIA), Department of Energy (DOE).

ACTION: Agency Information Collection Activities: Proposed modifications to data collection Form EIA-902, “Annual Geothermal Heat Pump Manufacturers Survey,” and request for comments.

SUMMARY: The EIA is soliciting comments on the proposed revisions and extension through November 30, 2007 to the Form EIA-902, “Annual Geothermal Heat Pump Manufacturers Survey.”

DATES: Comments must be filed by July 3, 2006. If you anticipate difficulty in submitting comments within that period, contact the person listed below as soon as possible.

ADDRESSES: Send comments to Fred Mayes. To ensure receipt of the comments by the due date, submission by FAX (202) 287-1964 or e-mail Fred.Mayes@eia.doe.gov is recommended. The mailing address is U.S. Department of Energy, Energy Information Administration, EI-52, 1000 Independence Ave., SW., Washington, DC 20585. Alternatively, Fred Mayes may be contacted by telephone at (202) 287-1750.

FOR FURTHER INFORMATION CONTACT: Requests for additional information or copies of any forms and instructions should be directed to Fred Mayes at the address listed above.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. chapter 35), provides the general public and other Federal agencies with opportunities to comment on proposed collections of energy information conducted by or in conjunction with the EIA. Any comments that are received help the EIA to finalize data requests that maximize the utility of the information collected, and to assess the impact of collection burden on the public. The EIA will later seek approval by the Office of Management and Budget (OMB) under section 3507(a) of the Paperwork Reduction Act of 1995.

The Form EIA-902, “Annual Geothermal Heat Pump Manufacturers Survey,” collects information about the manufacture and distribution of geothermal heat pumps and the status of the industry. The survey information is disseminated in electronic products and electronic data files. For details on EIA's renewables information program, please visit EIA's Web site at http://www.eia.doe.gov/fuelrenewable.html.

II. Current Actions

The EIA will request OBM approval of: (a) A 14-month extension, through November 30, 2007, and (b) modifications to Form EIA-902 described below. The proposed changes EIA is requesting reflect the increasing emergence of the renewable industry as a whole and the geothermal energy industry in particular. The changes proposed herein would be effective for EIA's calendar year 2007 data collection (2006 data) but would expire on November 30, 2007. The reason for this shortened interim clearance proposal is so that EIA can synchronize the forms clearance schedule for three of its renewable energy data collections. Specifically, EIA desires to consolidate the expiration date of Form EIA-902 with the expiration dates of Form EIA-63A, “Annual Solar Thermal Collector Manufacturers Survey,” and Form EIA-63B, “Annual Photovoltaic Module/Cell Manufacturers Survey.” Synchronizing the expiration date of these three forms, which all collect information from manufactures of renewable energy equipment, will permit EIA to conduct a more comprehensive review of its data needs for this market sector and develop a unified data collection approach which would lead to more efficient survey processing by EIA.

EIA recognizes that its information collections must continue to adapt as the industry changes. It is especially critical to Federal policymakers and State governments, who increasingly rely on the data to understand and respond to the current and emerging impacts of renewable industry developments on consumers nationally and in their particular State. In addition, as government energy policy moves towards market-based solutions, market data becomes even more important. The proposed form EIA-902 presented here incorporates discussions with trade associations of the geothermal energy industry.

EIA proposes the following changes to Form EIA-902: (1) Collect estimates of the coefficient of performance (COP) and the energy efficiency ratio (EER) for geothermal heat pumps by heat pump type; (2) collect the total rated capacity of geothermal heat pumps shipped (3.0) instead of the number of units shipped by destination; (3) collect the total rated capacity of domestic shipments by customer type (4.0) instead of the total number of geothermal heat pump shipments by customer type; (4) redefine the economic sectors to correspond to the standard sectors used by EIA; (5) collect total rated capacity of domestic shipments by economic sector (5.0) , instead of average rated capacity for all shipments ; and (6) add a FAX number to the information collected for the respondent contact. The form and instructions will be modified to show these changes.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burden for this collection is estimated to be an average 4.20 hours per response. The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. No. 104-13, 44 U.S.C. chapter 35).

Issued in Washington, DC, April 26, 2006.
Jay H. Casselberry,
Agency Clearance Officer, Energy Information Administration.

[FR Doc. E6-6667 Filed 5-2-06; 8:45 am]

BILLING CODE 6450-01-P